ENVIRONMENTAL PROTECTION AGENCY

[EPA-HQ-OPP-2025-0029; FRL-12719-01-OCSPP]

Pesticides; Notice of Receipt of Requests To Voluntarily Cancel Certain Pesticide Registrations and/or Amend Registrations To Terminate Certain Uses (April 2025)

AGENCY: Environmental Protection Agency (EPA).

ACTION: Notice.

SUMMARY: In accordance with the Federal Insecticide, Fungicide, and Rodenticide Act (FIFRA), EPA is issuing a notice of receipt of and soliciting comments on requests by the registrants to voluntarily cancel their registrations of certain products and/or to amend their product registrations to terminate one or more uses. EPA intends to grant these requests at the close of the comment period for this announcement unless the Agency receives substantive comments within the comment period that would merit further review of the requests, or the registrants withdraw their requests. If these requests are granted, EPA will issue an order in the Federal Register cancelling the listed product registrations, after which any sale, distribution, or use of the products listed in this document will be permitted after the registrations have been cancelled only if such sale, distribution, or use is consistent with the terms as described in the final order. Note that the month and year provided in the title are intended to help distinguish this document from other documents with the same title. This document identifies those requests that were received after the last notice of receipt was issued and are currently under review by EPA.

DATES: Comments and withdrawal requests must be received on or before September 4, 2025.

ADDRESSES: Submit your comments, identified by docket identification (ID) number EPA-HQ-OPP-2025-0029, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. Executive Summary

A. Does this action apply to me?

This action is directed to the public and may be of interest to a wide range of stakeholders including environmental, human health, and agricultural advocates; the chemical industry; pesticide users; and members of the public interested in the sale, distribution, or use of pesticides.

B. What action is the Agency taking?

This document announces receipt by EPA of requests from registrants to voluntarily cancel their pesticide registrations listed in Tables 1 and 2 of Unit II., that are currently registered under FIFRA section 3 (7 U.S.C. 136a) or section 24(c) (7 U.S.C. 136v(c)). Unless the Agency determines that there are substantive comments that warrant further review of the requests or the registrants withdraw their requests, EPA intends to issue an order in the Federal Register canceling the affected registrations.

C. What is the authority for taking this action?

FIFRA section 6(f)(1) (7 U.S.C. 136d(f)(1)) provides that a registrant of a pesticide product may at any time request that any of its pesticide registrations be canceled. Before acting on a request for voluntary cancellation, EPA must provide at least 30-day public comment period on the request. FIFRA further provides that, before acting on a request for voluntary cancellation or termination of any minor agricultural use, EPA must provide a 180-day comment period unless:

1. The registrants request a waiver of the comment period, or

2. The EPA Administrator determines that continued use of the pesticide would pose an unreasonable adverse effect on the environment.

The registrants in Table 3 of Unit II., have requested that EPA waive the 180-day comment period. Accordingly, this document provides a 30-day comment period on these requests.

D. What should I consider as I prepare my comments for EPA?

1. Submitting CBI. Do not submit this information to EPA through email or https://www.regulations.gov. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at http://www.epa.gov/dockets/comments.html.

E. How can a registrant withdraw their request for voluntary cancellation?

Registrants who choose to withdraw their request for voluntary cancellation should submit a withdrawal request in writing to the person listed under FOR FURTHER INFORMATION CONTACT. If the products have been subject to a previous cancellation action, the effective date of cancellation and all other provisions of any earlier cancellation action are controlling.

II. Requests To Voluntarily Cancel Certain Registrations

The registrations with pending voluntary requests for cancellation are listed in sequence by registration number (or company number and 24(c) number) in tables 1 and 1A of this unit.

Table 1—Product Registrations With Pending Requests for Cancellation
Registration No. | Company No. | Product name | Active ingredients
228-393 | 228 | Riverdale Resound 90DF | Chlorothalonil (081901/1897-45-6)—(90%).
228-601 | 228 | Nufarm CTN 82.5 | Chlorothalonil (081901/1897-45-6)—(82.5%).
961-277 | 961 | Lebanon Turf Fungicide Contains Daconil | Chlorothalonil (081901/1897-45-6)—(5%).
1381-222 | 1381 | Thiophanate-Methyl 45% F Fungicide | Thiophanate-methyl (102001/23564-05-8)—(46.2%).
4959-46 | 4959 | Bio Hatch | 1-Decanaminium, N-decyl-N,N-dimethyl-, chloride (069149/7173-51-5)—(7.5%).
5905-472 | 5905 | Helena Bravo S | Chlorothalonil (081901/1897-45-6)—(19.15%), Sulfur (077501/7704-34-9)—(27.25%).
5905-527 | 5905 | Chlorothalonil 90 D | Chlorothalonil (081901/1897-45-6)—(90%).
5905-601 | 5905 | Omni Brand Chlorothalonil | Chlorothalonil (081901/1897-45-6)—(54%).
7969-33 | 7969 | Luprosil | Propionic acid (077702/79-09-4)—(99.9%).
9779-270 | 9779 | Chlorothalonil 4L | Chlorothalonil (081901/1897-45-6)—(40.4%).
9779-280 | 9779 | Chlorothalonil 90 DF | Chlorothalonil (081901/1897-45-6)—(90%).
9779-320 | 9779 | Terranil 6L | Chlorothalonil (081901/1897-45-6)—(54%).
9779-333 | 9779 | Terranil ZN | Chlorothalonil (081901/1897-45-6)—(38.5%).
46149-1 | 46149 | Nolo BB Concentrate | Nosema locustae (117001/)—(.1%).
46149-2 | 46149 | Nolo Bait | Nosema locustae Canning LM (117002/)—(.05%).
53053-26 | 53053 | Envirosystems Proshield 3651 I | 1-Decanaminium, N,N-dimethyl-N-octyl-, chloride (069165/32426-11-2)—(4.8%), 1-Decanaminium, N-decyl-N,N-dimethyl-, chloride (069149/7173-51-5)—(2.88%), 1-Octadecanaminium, N,N-dimethyl-N-(3-(trimethoxysilyl)propyl)-, chloride (107401/27668-52-6)—(35.6%), 1-Octanaminium, N,N-dimethyl-N-octyl-, chloride (069166/5538-94-3)—(1.92%), Alkyl* dimethyl benzyl ammonium chloride *(50%C14, 40%C12, 10%C16) (069105/68424-85-1)—(6.4%).
53053-27 | 53053 | Envirosystems Proshield 3651 D | 1-Decanaminium, N,N-dimethyl-N-octyl-, chloride (069165/32426-11-2)—(4.8%), 1-Decanaminium, N-decyl-N,N-dimethyl-, chloride (069149/7173-51-5)—(2.88%), 1-Octadecanaminium, N,N-dimethyl-N-(3-(trimethoxysilyl)propyl)-, chloride (107401/27668-52-6)—(35.6%), 1-Octanaminium, N,N-dimethyl-N-octyl-, chloride (069166/5538-94-3)—(1.92%), Alkyl* dimethyl benzyl ammonium chloride *(50%C14, 40%C12, 10%C16) (069105/68424-85-1)—(6.4%).
71711-24 | 71711 | NAI-301 4 SE Fungicide | Chlorothalonil (081901/1897-45-6)—(21.65%), Flutolanil (128975/66332-96-5)—(17.2%), Propiconazole (122101/60207-90-1)—(1.8%).
91861-2 | 91861 | Bona STL Disinfecting Cleaner | Hydrogen peroxide (000595/7722-84-1)—(.97%).
AL-040001 | 95290 | Curfew | Telone (029001/542-75-6)—(97.5%).
AL-170003 | 62719 | Enlist Duo | 2,4-D, choline salt (051505/1048373-72-3)—(24.4%), Glyphosate, dimethylammonium salt (103608/34494-04-7)—(22.1%).
AL-170005 | 62719 | GF-3335 | 2,4-D, choline salt (051505/1048373-72-3)—(55.7%).
AL-170007 | 62719 | GF-3335 | 2,4-D, choline salt (051505/1048373-72-3)—(55.7%).
IN-190001 | 9779 | Moxy 2E | Bromoxynil octanoate (035302/1689-99-2)—(33.4%).
OR-070005 | 5481 | Tre Hold Sprout Inhibitor | Ethyl 1-naphthaleneacetate (056008/2122-70-5)—(1.15%).
OR-110008 | 70506 | ARY 0454-105 Suspension Concentrate Herbicide | Flucarbazone-sodium (114009/181274-17-9)—(35%).
OR-150002 | 71368 | Cheetah Herbicide | Glufosinate (128850/77182-82-2)—(24.5%).
OR-190003 | 70506 | Vitaflo 280 | Carboxin (090201/5234-68-4)—(15.59%), Thiram (079801/137-26-8)—(13.25%).
OR-190005 | 62562 | Sulphur W.G | Sulfur (077501/7704-34-9)—(80%).
OR-210011 | 91810 | Romeo | Cerevisane (cell walls of Saccharomyces cerevisiae strain LAS117) (100055/)—(94.1%).
WA-130002 | 61842 | Linex 4L Herbicide | Linuron (035506/330-55-2)—(40.6%).

The registrant of the products listed in Table 1A of this unit have requested 18-months to sell existing stocks of those products.

Table 1A—Product Registrations With Pending Requests for Cancellation, Cont'd
Registration No. | Company No. | Product name | Active ingredients
70506-271 | 70506 | Pegasus 82.5 DF | Chlorothalonil (081901/1897-45-6)—(82.5%).
70506-273 | 70506 | Pegasus HPX | Chlorothalonil (081901/1897-45-6)—(54%).
70506-563 | 70506 | Royal MH-30 | Maleic hydrazide, potassium salt (051503/28382-15-2)—(21.7%).
70506-565 | 70506 | Royal Slo-Gro | Maleic hydrazide, potassium salt (051503/28382-15-2)—(21.7%).
70506-568 | 70506 | Royal MH-30 SG | Maleic hydrazide, potassium salt (051503/28382-15-2)—(80%).
70506-576 | 70506 | Royal MH-30 Xtra | Maleic hydrazide, potassium salt (051503/28382-15-2)—(30.3%).

The registrations with pending voluntary requests for amendments are listed in sequence by registration number (or company number and 24(c) number) in Table 2 of this unit.

Table 2—Product Registrations With Pending Requests for Amendment
Registration No. | Company No. | Product name | Active ingredient | Uses to be terminated
1021-343 | 1021 | Pyrocide Intermediate 75-OF | Piperonyl butoxide (067501/51-03-6)—(75%), Pyrethrins (069001/8003-34-7)—(7.5%) | Human Articles uses.
1021-1599 | 1021 | Evercide Pressurised Pet and Plant Spray 2561 | Permethrin (109701/52645-53-1)—(.05%), Pyrethrins (069001/8003-34-7)—(.056%) | Cat uses.
2749-576 | 2749 | Propargite Technical | Propargite (097601/2312-35-8)—(93.58%) | Use on ornamental plants.
2749-577 | 2749 | Miteo Max II | Propargite (097601/2312-35-8)—(67.76%) | Use on ornamental plants.
2749-578 | 2749 | Miteo Max 6EC | Propargite (097601/2312-35-8)—(67.76%) | Use on ornamental plants.
2749-579 | 2749 | Miteo Max II EC | Propargite (097601/2312-35-8)—(67.76%) | Use on ornamental plants.
9688-314 | 9688 | Chemsico Insecticide RTU CG | Alkyl* dimethyl benzyl ammonium chloride *(60%C14, 30%C16, 5%C18, 5%C12) (069104/53516-76-0)—(.105%), Alkyl* dimethyl ethylbenzyl ammonium chloride *(68%C12, 32%C14) (069154/85409-23-0)—(.105%), Cypermethrin (109702/52315-07-8)—(.2%) | Outdoor conventional uses.
34704-1132 | 34704 | Mitey | Propargite (097601/2312-35-8)—(69.6%) | Ornamental Herbaceous Plants. Ornamental Conifers. Ornamental field and nursery use. Use on Christmas trees and conifers grown in containers. Use on non-bearing crops grown in containers.
70506-564 | 70506 | Omite-6E | Propargite (097601/2312-35-8)—(69.2%) | Use on ornamental plants.
70506-566 | 70506 | Comite | Propargite (097601/2312-35-8)—(73.6%) | Use on ornamental plants.
70506-572 | 70506 | Omite-30WS | Propargite (097601/2312-35-8)—(32%) | Use on ornamental plants.
70506-590 | 70506 | Omite 30W | Propargite (097601/2312-35-8)—(32%) | Use on ornamental plants.
87373-104 | 87373 | E117.01 | Propargite (097601/2312-35-8)—(69.6%) | Ornamental uses.
91234-33 | 91234 | A117.02 | Propargite (097601/2312-35-8)—(69.6%) | Ornamental uses.
91813-91 | 91813 | Omite Technical | Propargite (097601/2312-35-8)—(90.6%) | Use on ornamental plants.
93930-72 | 93930 | Avalaire Propargite | Propargite (097601/2312-35-8)—(69.6%) | Ornamental uses.
103050-4 | 103050 | Zen Propargite Technical | Propargite (097601/2312-35-8)—(91.5%) | Ornamental uses.

The name and address of record for the requesting registrants are listed in sequence by EPA company number in Table 3 of this unit. The company number corresponds to the first part of the EPA registration numbers of the products listed in Tables 1, 1A, and 2 of this unit.

Table 3—Registrants Requesting Voluntary Cancellation and/or Amendments
Company No. | Company name and address
228 | Nufarm Americas, Inc., 4000 Aerial Center Pkwy., Suite 101, Morrisville, NC 27560.
961 | Lebanon Seaboard Corporation, 1600 East Cumberland Street, Lebanon, PA 17042.
1021 | McLaughlin Gormley King Company, D/B/A MGK, 7325 Aspen Lane N, Minneapolis, MN 55428.
1381 | Winfield Solutions, LLC, P.O. Box 64589, St. Paul, MN 55164-0589.
2749 | Aceto Life Sciences, L.L.C., D/B/A Actylis, Agent Name: Product & Regulatory Associates, LLC, 8595 Collier Blvd., Suite 107-51, Naples, FL 34114.
4959 | West Agro, Inc., 11100 N. Congress Ave., Kansas City, MO 64153.
5481 | AMVAC Chemical Corporation, 4695 MacArthur Court, Suite 1200, Newport Beach, CA 92660-1706.
5905 | Helena Agri-Enterprises, LLC, D/B/A Helena Chemical Comp, 225 Schilling Blvd., Suite 300, Collierville, TN 38017.
7969 | BASF Agricultural Solutions US, LLC, 2 TW Alexander Drive, Research Triangle Park, NC 27713.
9688 | Chemsico, A Division of United Industries Corp., P.O. Box 142642, St Louis, MO 63114-0642.
9779 | Winfield Solutions, LLC, P.O. Box 64589, St. Paul, MN 55164-0589.
34704 | Loveland Products, Inc., Agent Name: Pyxis Regulatory Consulting, Inc., 4110 136th Street Ct. NW, Gig Habor, WA 98332.
46149 | M&R Durango, Inc., P.O. Box 886, Bayfield, CO 81122.
53053 | Novalent, Ltd., Agent Name: Scientific & Regulatory Consultants, Inc., 210 W. Van Buren St., Columbia City, IN 46725.
61842 | Tessenderlo Kerley, Inc., Agent Name: Pyxis Regulatory Consulting, Inc., 535 Dock Street, Suite 211, Tacoma, WA 98402.
62562 | Quimetal Industrial S.A., Agent Name: Lewis & Harrison, LLC, 2461 South Clark Street, Suite 710, Arlington, VA 22202.
62719 | Corteva Agriscience, LLC, 9330 Zionsville Road, Indianapolis, IN 46268.
70506 | UPL NA, Inc., P.O. Box 12219, Research Triangle Park, NC 27709.
71368 | NuFarm, Inc., Agent Name: NuFarm Americas, Inc., 4000 Aerial Center Parkway, Suite 101, Morrisville, NC 27560.
71711 | Nichino America, Inc., 4550 Linden Hill Road, Suite 501, Wilmington, DE 19808.
87373 | Argite, LLC, Agent Name: Pyxis Regulatory Consulting, Inc., 535 Dock Street, Suite 211, Tacoma, WA 98402.
91234 | Atticus, LLC, Agent Name: Pyxis Regulatory Consulting, Inc., 535 Dock Street, Suite 211, Tacoma, WA 98402.
91810 | Lesaffre Yeast Corporation, Agent Name: Wagner Regulatory Associates, Inc., 7217 Lancaster Pike, Suite A, P.O. Box 640, Hockessin, DE 19707-0640.
91813 | UPL Delaware, Inc., P.O. Box 12219, Research Triangle Park, NC 27709.
91861 | Bonakemi USA, Inc. (DBA Bona US), 24 Inverness Place East, Englewood, CO 80112.
93930 | Avalaire, LLC, 1705 Towanda Ave., Bloomington, IL 61701.
95290 | Salt Lake Holding, LLC, 2211 H.H. Dow Way, Midland, MI 48674.
103050 | Zenavis, LLC, Agent Name: Pyxis Regulatory Consulting, Inc., 535 Dock Street, Suite 211, Tacoma, WA 98402.

III. Provisions for Disposition of Existing Stocks

Existing stocks are those stocks of registered pesticide products that are currently in the United States and that were packaged, labeled, and released for shipment prior to the effective date of the action. If the requests for voluntary cancellation and/or amendments to terminate uses are granted, the Agency intends to publish the cancellation order in the Federal Register.

In any order issued in response to these requests, EPA anticipates including the following provisions for the treatment of any existing stocks of the products listed in Unit II.

For voluntary product cancellations listed in Table 1 of Unit II., registrants will be permitted to sell and distribute existing stocks of voluntarily canceled products for 1 year after the effective date of the cancellation, which will be the date of publication of the cancellation order in the Federal Register. Thereafter, registrants will be prohibited from selling or distributing the products identified in Table 1 of Unit II., except for export consistent with FIFRA section 17 (7 U.S.C. 136o) or for proper disposal.

For those products identified in Table 1A of Unit II., the registrant has requested 18-months after the date of publication of the cancelation order in the Federal Register to sell existing stocks. Thereafter, the registrant will be prohibited from selling or distributing the products identified in Table 1A of Unit II., except for export consistent with FIFRA section 17 (7 U.S.C. 136o) or for proper disposal.

Once EPA has approved labels for the products listed in Table 2 of Unit II., (amended to reflect the requested amendments to terminate uses), registrants will be permitted to sell or distribute products under the previously approved labeling for a period of 18 months after the date of publication of the cancelation order in the Federal Register, unless other restrictions have been imposed. Thereafter, registrants will be prohibited from selling or distributing the products whose labels include the terminated uses identified in Table 2 of Unit II., except for export consistent with FIFRA section 17 (7 U.S.C. 136o) or for proper disposal.

Persons other than the registrant will generally be allowed to sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: July 31, 2025.
Charles Smith,
Director, Registration Division, Office of Pesticide Programs.

[FR Doc. 2025-14817 Filed 8-4-25; 8:45 am]

BILLING CODE 6560-50-P